NUCLEAR REGULATORY COMMISSION

[NUREG-1620]

Review of A Reclamation Plan For Mill Tailings Sites Under Title II of the Uranium Mill Tailings Radiation Control Act; Final Standard Review Plan

AGENCY: Nuclear Regulatory Commission.

ACTION: Notice of availability.

SUMMARY: The U.S. Nuclear Regulatory Commission (NRC) has published the Final Standard Review Plan for Review of a Reclamation Plan for Mill Tailings Sites Under Title II of the Uranium Mill Tailings Radiation Control Act (NUREG-1620). An NRC source and byproduct material license is required under the provisions of Title 10 of the Code of Federal Regulations, part 40 (10 CFR part 40), Domestic Licensing of Source Material, in conjunction with uranium or thorium milling, or with byproduct material at sites formerly associated with such milling. An applicant for a new reclamation plan, or for the renewal or amendment of an existing license, is required to provide detailed information on the facilities, and procedures to be used, and if appropriate, an environmental report that discusses the effect of proposed operations on public health and safety and on the environment. This information is used by Nuclear Regulatory Commission staff to determine whether the proposed activities will be protective of public health and safety and the environment. The standard review plan provides guidance to NRC staff for the review of reclamation plans while ensuring consistency and uniformity among the staff reviews. Each section in the review plan provides detailed review guidance on subject matter required in a standard reclamation plan. The review plan is intended to improve the understanding of the staff review process by interested members of the public and the uranium recovery industry. The final version includes updates based on public comment on the draft Standard Review Plan for the Review of a Reclamation Plan for Mill Tailings Sites Under Title II of the Uranium Mill Tailings Radiation Control Act.

Availability: Copies of NUREG-1620 may be purchased from the Superintendent of Documents, U.S. Government Printing Office, PO Box 37082, Washington, DC 20402-9328. Copies are also available from the National Technical Information Service, 5285 Port Royal Road, Springfield, Virginia 22161. Paper and electronic copies are available for inspection and/or copying in the NRC Public Document Room, 2120 L Street, NW. Washington, DC. An electronic copy can be accessed for reading, searching, or copying under “Technical Reports in the NUREG Series” of the “NRC Reference Library” at the NRC Web site, (http://www.nrc.gov/NRC/NUREGS).

Dated at Rockville, Maryland, this 3rd day of July, 2000.
For the Nuclear Regulatory Commission.
Philip Ting,
Chief, Fuel Cycle Licensing Branch, Division of Fuel Cycle Safety and Safeguards Office of Nuclear Material Safety and Safeguards.

[FR Doc. 00-18919 Filed 7-25-00; 8:45 am]

BILLING CODE 7590-01-P